DEPARTMENT OF HEALTH AND HUMAN SERVICES

[Document Identifier: OS-0990-New-30D]

Agency Information Collection Request. 30-Day Public Comment Request

AGENCY: Office of the Assistant Secretary for Technology Policy/Office of the National Coordinator for Health IT, Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 25, 2025.

ADDRESSES: Written comments and recommendations for the proposed information collection should be sent within 30 days of publication of this notice to www.reginfo.gov/public/do/PRAMain . Find this particular information collection by selecting “Currently under 30-day Review—Open for Public Comments” or by using the search function.

FOR FURTHER INFORMATION CONTACT: Meghan Gabriel, Meghan.Gabriel@hhs.gov, or (202) 465-0597, or ASTP_Data@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Survey of Digital Health Companies.

Type of Collection: New.

Document Identifier 0990-New-30D.

Abstract

The 21st Century Cures Act (Cures Act) aimed to advance the exchange of electronic health information by promoting patient access through standardized application programming interfaces (APIs). Digital health companies develop apps and health IT tools that enable human interaction with APIs to exchange electronic health information. Prior studies indicate widespread adoption of standardized APIs for interoperability with electronic health records (EHRs). Ongoing assessment of these technologies is crucial to examining the impacts of the Cures Act's health IT provisions and is critical to informing the Assistant Secretary for Technology Policy/Office of the National Coordinator for Health IT's (ASTP/ONC's) policy efforts. With ASTP/ONC's support, the University of California, San Francisco (UCSF) conducted a 2022 survey of digital health companies assessing implementation of and experiences with healthcare APIs; findings from this survey work are published in the Journal of the American Medical Informatics Association. ASTP/ONC finds it essential to continue efforts to survey digital health companies to assess ASTP/ONC's implementation of statutorily mandated information blocking (42 U.S.C. 300jj-52) and APIs “without special effort” policies (42 U.S.C. 300jj-11) under the Cures Act. Information gathered from this effort will help inform ongoing ASTP/ONC efforts to help nurture an ecosystem of innovation and transparency in health care.

This is a 3-year request for OMB approval.

Estimated Annualized Burden Table
Type of respondent | Number of respondents | Number responses per respondent | Average burden per response (in hours) | Total burden hours
Digital Health Companies | 282 | 1 | .5 | 141
Total | 282 | 1 | .5 | 141

Catherine Howard,
Paperwork Reduction Act Reports Clearance Officer (Acting), Office of the Secretary.

[FR Doc. 2025-16295 Filed 8-25-25; 8:45 am]

BILLING CODE 4150-45-P